CHEMICAL SAFETY AND HAZARD INVESTIGATION BOARD

Sunshine Act Meeting—May 9, 2007—7 p.m.

In connection with its investigation into the cause of a November 22, 2006, explosion and fire at the CAI/Arnel manufacturing facility in Danvers, Massachusetts, the United States Chemical Safety and Hazard Investigation Board (CSB) announces that it will convene a community meeting on May 9, 2007 starting at 7 p.m. in the Grand Ballroom at the Sheraton Ferncroft Resort, 50 Ferncroft Road, Danvers, MA 01923.

At the meeting CSB staff will present to the Board the preliminary results of their investigation into this incident. There will be a public comment period after the investigators' presentation.

During the early morning hours of November 22, a powerful explosion destroyed the CAI/Arnel manufacturing facility in Danvers, Massachusetts. Scores of nearby homes and businesses were damaged, some beyond repair. A number of residents were hospitalized. There were no injuries in the plant, which was unoccupied at the time.

After the staff presentation, the Board will allow a time for public comment. Following the conclusion of the public comment period, the Board will consider whether the preliminary facts presented necessitate any recommendations prior to the final completion of the Board's investigative report.

All staff presentations are preliminary and are intended solely to allow the Board to consider in a public forum the issues and factors involved in this case. No factual analyses, conclusions or findings should be considered final. Only after the Board has considered a final staff presentation and approved the staff report next year will there be an approved final record of this incident.

The meeting will be open to the public. Please notify CSB if a translator or interpreter is needed, at least 5 business days prior to the public meeting. For more information, please contact the Chemical Safety and Hazard Investigation Board at (202) 261-7600, or visit our Web site at: http://www.csb.gov.

Christopher W. Warner,
General Counsel.

[FR Doc. 07-2064 Filed 4-23-07; 2:56 pm]

BILLING CODE 6350-01-P